DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with changes to Form EIA-886 Annual Survey of Alternative Fuel Vehicles under OMB Control Number 1905-0191. Form EIA-886 collects information on the number and type of alternative fueled vehicles (AFVs) and other advanced technology vehicles that vehicle suppliers made available in the previous calendar year and plan to make available in the following calendar year; the number, type, and geographic distribution of AFVs in use in the previous calendar year; and the amount and distribution of each type of alternative transportation fuel (ATF) consumed in the previous calendar year.

DATES: Comments on this information collection must be received no later than September 20, 2018. If you anticipate any difficulties in submitting your comments by the deadline, contact the DOE Desk Officer at 202-395-4718.

ADDRESSES: Written comments should be sent to DOE Desk Officer: Brandon Debruhl, Office of Information and Regulatory Affairs, Office of Management and Budget, New Executive Office Building, Room 10102, 735 17th Street NW, Washington, DC 20503, Brandon_F_DeBruhl@omb.eop.gov; and to Cynthia Sirk, Office of Energy Consumption and Efficiency Statistics, Forrestal Building, EI-22, U.S. Department of Energy, 1000 Independence Avenue SW, Washington, DC 20585 or by fax at (202) 586-9753, or by email at cynthia.sirk@eia.gov.

FOR FURTHER INFORMATION CONTACT: Cynthia Sirk, 202-586-9753, email cynthia.sirk@eia.gov. Form EIA-886 and its instructions are available at: https://www.eia.gov/survey/form/eia_886/proposed/2017/form_instructions.pdf.

SUPPLEMENTARY INFORMATION: This information collection request contains:

(1) OMB No. 1905-0191;

(2) Information Collection Request Title: Annual Survey of Alternative Fueled Vehicles;

(3) Type of Request: Three-year extension with changes;

(4) Purpose: Form EIA-886 data are collected from suppliers and users of AFVs. EIA uses data from these groups as a basis for estimating total AFV and ATF use in the U.S. These data are needed by Federal and State agencies, fuel suppliers, transit agencies, and other fleets to determine if sufficient quantities of AFVs are available for purchase and to provide Congress with a measure of the extent to which the objectives of the Energy Policy Act of 1992 are being achieved. These data serve as market analysis tools for Congress, Federal/State agencies, AFV suppliers, vehicle fleet managers, and other interested organizations and persons. These data are also needed to satisfy public requests for detailed information on AFVs and ATFs (in particular, the distribution of AFVs by State, as well as the amount and location of the ATFs being consumed).

(4a) Changes to Information Collection:

• Changes to Vehicle Type and Weight Classifications: EIA will standardize the break out of weight classes to reflect industry standards by simplifying the list of vehicle type codes and adding a column for detailed weight classifications in Parts 2 and 3 of Form EIA-886. The changes to vehicle weight classifications support EPA's Motor Vehicle Emission Simulator model (MOVES) by making the weight classifications on the Form EIA-886 data collection consistent with the weight classifications used by EPA.

• Questions for Electric Vehicle Users: EIA will add the following two questions to Part 2 of Form EIA-886 to collect information on electric vehicle power consumption to establish parameters for estimating electricity consumption on charging patterns, and electric utility billing for electric vehicles:

1. How do you charge your electric/plug-in hybrid electric vehicles?

2. Does your electric utility provide separate billing on kilowatt hours used for refueling vehicles?

(5) Annual Estimated Number of Respondents: 1,334;

(6) Annual Estimated Number of Total Responses: 1,334;

(7) Annual Estimated Number of Burden Hours: 7,257;

(8) Annual Estimated Reporting and Recordkeeping Cost Burden: The cost of the burden hours is estimated to be $549,282 (7,257 burden hours times $75.69 per hour). EIA estimates there are no additional costs to respondents associated with the survey other than the costs associated with the burden hours.

Statutory Authority: Section 13(b) of the Federal Energy Administration Act of 1974, Pub. L. 93-275, codified as 15 U.S.C. 772(b) and the DOE Organization Act of 1977, Pub. L. 95-91, codified at 42 U.S.C. 7101 et seq. and Section 503(b)(2) of the Energy Policy Act of 1992, Pub. L. 102-486 (EPACT92) codified at 42 U.S.C. 13253.

Issued in Washington, DC, on August 10, 2018.
Nanda Srinivasan,
Director, Office of Survey Development and Statistical Integration, U.S. Energy Information Administration.

[FR Doc. 2018-18029 Filed 8-20-18; 8:45 am]

BILLING CODE 6450-01-P